DEPARTMENT OF ENERGY

Federal Energy Regulatory Commission

[Docket No. RP03-354-000]

CenterPoint Energy—Mississippi River Transmission Corporation; Notice of Proposed Changes in FERC Gas Tariff

May 1, 2003.

Take notice that on April 28, 2003, CenterPoint Energy Mississippi River Transmission Corporation (MRT) tendered for filing, as part of its FERC Gas Tariff, Third Revised Volume No. 1, the following revised tariff sheets to be effective May 29, 2003:

Fourth Revised Sheet No. 40

Second Revised Sheet No. 177

Original Sheet No. 178

Original Sheet No. 179

Sheet Nos. 180-182

MRT states that the purpose of this filing is to revise the provisions of the General Terms and Conditions of MRT's tariff relating to capacity releases when the Releasing Customer is not creditworthy.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11386 Filed 5-6-03; 8:45 am]

BILLING CODE 6717-01-P